DEPARTMENT OF HEALTH AND HUMAN SERVICES

Administration for Children and Families

Submission for OMB Review; Comment Request

Title: Federal Tax Offset, Administrative Offset, and Passport Denial.

OMB No.: 0970-0161.

Description: The Federal Tax Offset, Administrative Offset, and Passport Denial programs collect past-due child support by intercepting certain federal payments, including federal tax refunds, of parents who have been ordered to pay child support and who are behind in paying the debt. The program is a cooperative effort among the Department of the Treasury's Financial Management Service, the federal Office of Child Support Enforcement (OCSE), and state child support enforcement (CSE) agencies. The Passport Denial program reports noncustodial parents who owe child support above a threshold to the Department of State, which will then deny passports to these individuals. On an ongoing basis, CSE agencies submit to OCSE the names, Social Security numbers, and the amount(s) of past-due child support of people who are delinquent in making child support payments.

Respondents: State IV-D Agencies.

Annual Burden Estimates
Instrument | Number of respondents | Number of responses per respondent | Average burden hours per response | Total burden hours
Input Record | 54 | 52 | .3 | 842.4
Output Record | 54 | 52 | .46 | 1291.7
Payment File | 54 | 52 | .135 | 379.1
Certification Letter | 54 | 1 | .4 | 21.6
SSP FCE Processing screens—State Workers | 146 | 337 | .008 | 393.6
Total |  |  |  | 2,928.4

Estimated Total Annual Burden Hours: 2928.4.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV, Attn: Desk Officer for the Administration for Children and Families.

Robert Sargis,
Reports Clearance Officer.

[FR Doc. 2013-07898 Filed 4-4-13; 8:45 am]

BILLING CODE 4184-01-P